DEPARTMENT OF TRANSPORTATION

Surface Transportation Board

[STB Finance Docket No. 34033]

Canadian Pacific Railway Company—Trackage Rights Exemption—CSX Transportation, Inc.

CSX Transportation, Inc. (CSXT), has agreed to grant to Canadian Pacific Railway Company (CPR) limited overhead trackage rights located entirely within the City of Detroit, MI. The trackage consists of a new connection CSXT is constructing from Consolidated Rail Corporation's Michigan Line, at milepost 5.65 +/−, to CSXT's line of railroad known as the Detroit Subdivision, milepost CH 7.5 +/−. In addition, CSXT is granting trackage rights to CPR over the Detroit Subdivision, from milepost CH 7.5 +/− to milepost 13.5 +/−, along with trackage at Oak Intermodal Facility necessary to effect the delivery of trains, including necessary head and tail room, for a total of approximately 6.3 +/− miles.¹

¹ A redacted version of the Trackage Rights Agreement between CSXT and CPR (agreement) was filed with the verified notice of exemption. An unredacted version of the agreement, as required by 49 CFR 1180.6(a)(7)(ii), was concurrently filed under seal along with a motion for a protective order. That motion has been granted in a separate decision and a protective order in this proceeding is being served on May 29, 2001.

The transaction is scheduled to be consummated on or after May 25, 2001. The trackage rights will allow for a more efficient routing of CPR's trains into the Oak Intermodal Facility.

Under 49 U.S.C. 10502(g), the Board may not use its exemption authority to relieve a rail carrier of its statutory obligation to protect the interests of its United States employees. CPR states that it does not anticipate that any CPR employees will be affected by the transaction but it recognizes that the protective conditions imposed in Norfolk and Western Ry. Co.—Trackage Rights—BN, 354 I.C.C. 605 (1978), as modified in Mendocino Coast Ry., Inc.—Lease and Operate, 360 I.C.C. 653 (1980) are applicable to this proceeding.

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34033, must be filed with the Surface Transportation Board, Office of the Secretary, Case Control Unit, 1925 K Street, NW., Washington, DC 20423-0001. In addition, one copy of each pleading must be served on Diane P. Gerth, Esq., Leonard, Street and Deinard, 150 South Fifth Street, Suite 2300, Minneapolis, MN 55402.

Board decisions and notices are available on our website at www.stb.dot.gov.

Decided: May 24, 2001.
By the Board, David M. Konschnik, Director, Office of Proceedings.
Vernon A. Williams,
Secretary.

[FR Doc. 01-13629 Filed 5-30-01; 8:45 am]

BILLING CODE 4915-00-P